DEPARTMENT OF THE INTERIOR

Bureau of Land Management

[LLWO310000 L13100000.PP0000]

Renewal and Revision of Approved Information Collection

AGENCY: Bureau of Land Management, Interior.

ACTION: 30-day Notice and Request for Comments.

SUMMARY: The Bureau of Land Management (BLM) has submitted an information collection request to the Office of Management and Budget (OMB) for a 3-year renewal of OMB Control Number 1004-0137 under the Paperwork Reduction Act. This control number includes paperwork requirements in 43 CFR part 3160, which cover onshore oil and gas operations.

DATES: The OMB is required to respond to this information collection request within 60 days but may respond after 30 days. Therefore, written comments should be received on or before August 26, 2010.

ADDRESSES: Submit comments directly to the Desk Officer for the Department of the Interior (OMB #1004-0137), Office of Management and Budget, Office of Information and Regulatory Affairs, fax 202-395-5806, or by electronic mail at oira_docket@omb.eop.gov. Please mail a copy of your comments to: Bureau Information Collection Clearance Officer (WO-630), Department of the Interior, 1849 C Street, NW., Mail Stop 401 LS, Washington, DC 20240; send them by electronic mail to jean_sonneman@blm.gov; or fax them to Jean Sonneman at 202-912-7102.

FOR FURTHER INFORMATION CONTACT: You may contact Barbara Gamble at 202-912-7148. Persons who use a telecommunication device for the deaf (TDD) may call the Federal Information Relay Service (FIRS) on 1-800-877-8339, to contact Ms. Gamble. You may also contact Ms. Gamble to obtain a copy, at no cost, of the regulations and forms that require this collection of information.

SUPPLEMENTARY INFORMATION:

The following information is provided for the information collection:

Title: Onshore Oil and Gas Operations (43 CFR part 3160).

Forms:

• Form 3160-3, Application for Permit to Drill or Reenter;

• Form 3160-4, Well Completion or Recompletion Report and Log; and

• Form 3160-5, Sundry Notices and Reports on Wells.

OMB Control Number: 1004-0137.

Type of Review: Revision and renewal of a currently approved information collection.

Abstract: Various Federal and Indian mineral leasing statutes authorize the BLM to grant and manage onshore oil and gas leases on Federal and Indian (except Osage Tribe) lands. The BLM implements these statutory authorities in accordance with regulations at 43 CFR part 3160 and onshore oil and gas orders promulgated in accordance with 43 CFR 3164.1. Responses are required to obtain or maintain a benefit.

Frequency of Collection: On occasion.

Annual Burden Hours: 895,640 hours.

Annual Non-hour Burden Cost: $32,500,000 in processing fees for Form 3160-3, Application for Permit to Drill or Re-enter.

The following table details the individual components and respective hour burden estimates of this information collection request:

Type of response A | Number of responses B | Hours per response C | Total hours D
Application for Permit To Drill or Re-enter (43 CFR 3162.3-1) Form 3160-3 | 5,000 | 80 | 400,000
Well Completion or Recompletion Report and Log (43 CFR 3162.4-1) Form 3160-4 | 5,000 | 4 | 20,000
Sundry Notices and Reports on Wells (43 CFR 3162.3-2) Form 3160-5 | 34,000 | 8 | 272,000
Plan for Well Abandonment (43 CFR 3162.3-4) | 1,500 | 8 | 12,000
Schematic/Facility Diagrams (43 CFR 3162.4-1(a) and 3162.7-5(d)(1)) | 1,000 | 8 | 8,000
Drilling Tests, Logs, and Surveys (43 CFR 3162.4-2(a)) | 100 | 8 | 800
Disposal of Produced Water (43 CFR 3164.1 and 3162.5-1(b)) Onshore Oil and Gas Order No. 7 | 1,500 | 8 | 12,000
Report of Spills, Discharges, or Other Undesirable Events (43 CFR 3162.5-1(c)) | 200 | 8 | 1,600
Contingency Plan (43 CFR 3162.5-1(d)) | 50 | 32 | 1,600
Direction Drilling (43 CFR 3162.5-2(b)) | 165 | 8 | 1,320
Well Markers (43 CFR 3162.6) | 1,000 | 8 | 8,000
Gas Flaring (43 CFR 3164.2 and 43 CFR 3162.7-1(d)) Notice to Lessees—4A: Royalty or Compensation for Oil and Gas Lost | 100 | 16 | 1,600
Records for Seals (43 CFR 3162.7-5(b)) | 90,000 | 0.75 | 67,500
Site Security (43 CFR 3162.7-5(c)) | 2,415 | 8 | 19,320
Prepare Run Tickets (43 CFR 3164.1) Onshore Oil and Gas Order No. 4 | 90,000 | 0.75 | 67,500
Application for Suspension or Other Relief (43 CFR 3165.1(a)) | 100 | 16 | 1,600
State Director Review (43 CFR 3165.3(b)) | 50 | 16 | 800
Totals | 232,180 |  | 895,640

60-Day Notice: As required by 5 CFR 1320.8(d), the BLM published the 60-day notice in the Federal Register on February 3, 2010 (75 FR 5624) soliciting comments from the public and other interested parties. The comment period closed on April 5, 2010. The BLM did not receive any comments from the public in response to this notice, and did not receive any unsolicited comments.

The BLM requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments to the addresses listed under ADDRESSES. Please refer to OMB control number 1004-0137 in your correspondence. Before including your address, phone number, e-mail address, or other personal identifying information in your comment, you should be aware that your entire comment—including your personal identifying information—may be made publicly available at any time. While you can ask us in your comment to withhold your personal identifying information from public review, we cannot guarantee that we will be able to do so.

Jean Sonneman,
Acting Information Collection Clearance Officer.

[FR Doc. 2010-18395 Filed 7-26-10; 8:45 am]

BILLING CODE 4310-84-P